DEPARTMENT OF COMMERCE

National Oceanic and Atmospheric Administration

[I.D. 010303A]

North Pacific Fishery Management Council; Notice of Committee Meeting

AGENCY: National Marine Fisheries Service (NMFS), National Oceanic and Atmospheric Administration (NOAA), Commerce.

ACTION: Committee Meeting.

SUMMARY: The North Pacific Fishery Management Council's (Council) Essential Fish Habitat Committee will meet in Seattle, WA.

DATES: The meeting will be held on January 26, 2003.

ADDRESSES: Renaissance Madison Hotel, 515 Madison Street, Seattle, WA 98104, in the South Room on the 3rd floor.

Council address: North Pacific Fishery Management Council, 605 W. 4th Ave., Suite 306, Anchorage, AK 99501-2252.

FOR FURTHER INFORMATION CONTACT: Cathy Coon, NPFMC, 907-271-2809.

SUPPLEMENTARY INFORMATION: The meeting will begin at 9a.m. on Sunday, January 26, 2003. The Committee's agenda includes the following issues:

(1) Comments on the geographic boundaries of Alternative 6.

(2) Comments on Alternative 5 suboption for the Aleutian Islands.

(3) Update on the geographic boundaries of the Gulf of Alaska Alternatives in accordance with Coast Guard and NMFS regulatory specifications.

(4) Discussion of the concept of a baseline for the analysis.

Although non-emergency issues not contained in this agenda may come before the Committee for discussion, in accordance with the Magnuson-Stevens Fishery Conservation and Management Act (Magnuson-Stevens Act), these issues may not be the subject of formal Committee action during this meeting. Committee action will be restricted to those issues specifically listed in this notice and any issues arising after publication of this notice that require emergency action under section 305(c) of the Magnuson-Stevens Act, provided the public has been notified of the Committee's intent to take final action to address the emergency.

Special Accommodations

These meetings are physically accessible to people with disabilities. Requests for sign language interpretation or other auxiliary aids should be directed to Gail Bendixen, 907-271-2809, at least 5 working days prior to the meeting date.

Dated: January 3, 2003.
Richard W. Surdi,
Acting Director, Office of Sustainable Fisheries, National Marine Fisheries Service.

[FR Doc. 03-322 Filed 1-7-03; 8:45 am]

BILLING CODE 3510-22-S